DEPARTMENT OF ENERGY

Federal Energy Regulatory Commission

[Docket No. EL00-95-020; Docket No. EL00-98-019; Docket No. EL01-47-002; Docket No. EL01-72-000]

San Diego Gas & Electric Company, Complainant, v. Sellers of Energy and Ancillary Services Into Markets Operated by the California Independent System Operator and the California Power Exchange, Respondents; Investigation of Practices of the California ISO and the California Exchange, Removing Obstacles to Increased Generation and Natural Gas Supply in the Western United States, Section 210(d) Proceeding Applicable to Electric Utilities in California; Notice of Opportunity for Comment on Motions for Emergency Relief and Institution of Section 210(d) Proceeding

May 2, 2001.

Take notice that Ridgewood Power LLC (Ridgewood) submitted a Request for Emergency Relief and an Updated Request for Emergency Relief in Docket Nos. EL00-95-020 and EL00-98-019 (on March 8, 2001 and April 9, 2001) requesting the Commission to take action to prevent qualifying facility (QF) capacity from going off-line in the State of California. Ridgewood asks the Commission to take actions that will permit those QFs in California that have not been paid fully for past power deliveries to enter arrangements to temporarily sell to third-party buyers within California. Ridgewood asks the Commission to declare that California electric utilities cannot deny transmission access to QFs or otherwise frustrate the ability of QFs to sell to third-party purchasers.

Also take notice that the California Cogeneration Council (Cogeneration Council) on April 9, 2001, filed a Motion for Emergency Relief in docket No EL01-47-000 requesting the Commission to take action to prevent QFs from going off-line in the State of California. Among other things, the Cogeneration Council requests the Commission to require interconnection, transmission, and related services under section 210(d) of the Federal Power Act on a temporary basis pending the resolution of accounts receivable issues. The Commission will address the Cogeneration Council's motion and the responses thereto in Docket No. EL01-47-002.

Take notice that the Commission is also instituting a proceeding under Section 210(d) on its own motion in Docket No. EL01-72-000. In this proceeding, the Commission will consider whether and to what extent it may need to order the provision of interconnection, transmission, and related services under Section 210(d) to alleviate generation capacity supply shortages in California.

Any person desiring to be heard or to protest such filing should file a motion to intervene, comments or protest with the Federal Energy Regulatory Commission, 888 First Street, NE., Washington, DC 20426, in accordance with Rules 211 and 214 of the Commission's Rules of Practice and Procedure (18 CFR 385.211 and 385.214). All such motions, comments and protests should be filed on or before May 10, 2001. Protests will be considered by the Commission to determine the appropriate action to be taken, but will not serve to make protestants parties to the proceedings. Any person wishing to become a party must file a motion to intervene. Copies of the filings are on file with the Commission and are available for public inspection. The filings may also be viewed on the Internet at http://www.ferc.fed.us/online/rims.htm (call 202-208-2222 for assistance). Motions to intervene, comments and protests may be filed electronically via the internet in lieu of paper. See, 18 CFR 385.2001(A)(1)(iii) and the instructions on the Commission's web site at http://www.ferc.fed.us/efi/doorbell.htm.

Documents previously filed in Docket Nos. EL00-95-020 and EL00-98-019 and EL00-47-000, including those filed by the California Public Utilities Commission, Southern California Edison Company, and Pacific Gas and Electric Company, need not be refiled to be considered in these proceedings and serve to make those entities parties to these proceedings.

David P. Boergers,
Secretary.

[FR Doc. 01-11574 Filed 5-7-01; 8:45 am]

BILLING CODE 6717-01-M